OFFICE OF THE UNITED STATES TRADE REPRESENTATIVE

[Docket No. WTO/DS-248]

WTO Dispute Settlement Proceeding Regarding United States—Safeguard Measures on Certain Steel Products

AGENCY: Office of the United States Trade Representative.

ACTION: Notice; request for comments.

SUMMARY: The Office of the United States Trade Representative (“USTR”) is providing notice that on June 3, 2002, a dispute settlement panel was established at the request of the European Communities (“EC”) under the Marrakesh Agreement Establishing the World Trade Organization (“WTO”) to examine safeguard measures imposed on certain steel products pursuant to section 203 of the Trade Act of 1974 (19 U.S.C. 2253) (“safeguard measures”) and established in Presidential Proclamation 7529 of March 5, 2002 (67 FR 10553 (Mar. 7, 2002)). Panels were also established at the request of Brazil, China, Japan, Korea, New Zealand, Norway, and Switzerland to examine these safeguard measures. Pursuant to an agreement with these countries (the “complaining parties”), one panel will examine all of these disputes. The complaining parties allege that the safeguard measures are inconsistent with the obligations of the United States under the General Agreement on Tariffs and Trade 1994 (“GATT 1994”) and the WTO Agreement on Safeguards (“SA”). USTR invites written comment from the public concerning the issues raised in this dispute. Canada, Chinese Taipei, Cuba, Malaysia, Mexico, Thailand, Turkey, and Venezuela have notified the WTO of their intention to participate as third parties.

DATES: Although USTR will accept any comments received during the course of the dispute settlement proceedings, comments should be submitted on or before September 12, 2002, to be assured of timely consideration by USTR.

ADDRESSES: Comments should be submitted (i) electronically, to FR0025@ustr.gov, Attn: “Steel Safeguard Measures Dispute” in the subject line, or (ii) by mail, to Sandy McKinzy, Monitoring and Enforcement Unit, Office of the General Counsel, Room 122, Office of the United States Trade Representative, 600 17th Street, NW., Washington, DC 20508, Attn: Steel Safeguard Measures Dispute, with a confirmation copy sent electronically or by fax to 202-395-3640.

FOR FURTHER INFORMATION CONTACT: Willis S. Martyn, Associate General Counsel, Office of the United States Trade Representative, 600 17th Street, NW., Washington, DC, (202) 395-3582.

SUPPLEMENTARY INFORMATION: Pursuant to Section 127(b) of the Uruguay Round Agreements Act (“URAA”) (19 U.S.C. 3537(b)(1)), USTR is providing notice that on June 3, 2002, a WTO dispute settlement panel was established at the request of the EC. Panels were also established at the request of Brazil, China, Japan, Korea, New Zealand, Norway, and Switzerland to examine these safeguard measures. Pursuant to an agreement with these countries (the “complaining parties”), one panel will examine all of these disputes. The Panel, which would hold its meetings in Geneva, Switzerland, is expected to issue a report on its findings and recommendations within six to nine months after its establishment.

Major Issues Raised and Legal Basis of the Complaint

The complaining parties allege that the safeguard measures are inconsistent with certain obligations of the United States under GATT 1994 and the SA. The safeguard measures consist of additional tariffs and a tariff-rate quota on the following steel products:

(a) Certain flat steel, consisting of slabs provided for in the superior text to subheadings 9903.72.30 through 9903.72.48 of the Harmonized Tariff Schedule of the United States (“HTS”); plate provided for in the superior text to subheadings 9903.72.50 through 9903.72.60 of the HTS; hot-rolled steel provided for in the superior text to subheadings 9903.72.62 through 9903.72.77 of the HTS; cold-rolled steel provided for in the superior text to subheadings 9903.72.80 through 9903.72.98 of the HTS; and coated steel provided for in the superior text to subheadings 9903.72.99 through 9903.73.14 of the HTS;

(b) Certain hot-rolled bar provided for in the superior text to subheadings 9903.73.28 through 9903.73.38 of the HTS;

(c) Certain cold-finished bar provided for in the superior text to subheadings 9903.73.39 through 9903.73.44 of the HTS;

(d) Certain rebar provided for in the superior text to subheadings 9903.73.45 through 9903.73.50 of the HTS;

(e) Certain certain tubular products provided for in the superior text to subheadings 9903.73.51 through 9903.73.62 of the HTS;

(f) Certain carbon and alloy fittings provided for in the superior text to subheadings 9903.73.66 through 9903.73.72 of the HTS;

(g) Certain stainless steel bar provided for in the superior text to subheadings 9903.73.74 through 9903.73.81 of the HTS;

(h) Certain stainless steel rod provided for in the superior text to subheadings 9903.73.83 through 9903.73.89 of the HTS;

(i) certain tin mill products provided for in the superior text to subheadings 9903.73.15 through 9903.73.27 of the HTS; and

(j) Certain stainless steel wire provided for in the superior text to subheadings 9903.73.91 through 9903.73.96 of the HTS.

The complaining parties allege that the safeguard measures are inconsistent with certain obligations of the United States under GATT 1994 and the SA. Specifically, they allege that the safeguard measures are inconsistent with:

• Article XIX:1 of GATT 1994 because the United States did not show that imports increased in such conditions as to cause serious injury or threat of serious injury as a result of unforeseen developments;

• Articles 2.1, 4.2(a), and 4.2(c) of the SA and Article XIX of GATT 1994 because the United States failed to properly define the domestic industry producing a product like or directly competitive with increased imports;

• Articles 2.1 and 4.2(a) of the SA and Article XIX:1 of GATT 1994 because there were no increased imports;

• Articles 2.1 and 4.2(a) of the SA and Article XIX of the GATT 1994 because the domestic industry was not experiencing serious injury or the threat of serious injury;

• Articles 2.1 and 4.2(b) of the SA and Article XIX:1 of GATT 1994 because the United States neither demonstrated the causal connection between imports and serious injury nor distinguished injury caused by factors other than increased imports from injury caused by imports;

• Articles 3.1 and 4.2(c) of the SA because the report of the U.S. competent authorities was inadequate;

• Article 5.1 of the SA and Article XIX:1 of GATT 1994 because the United States applied the measure beyond the extent necessary to prevent or remedy serious injury;

• Article 5.2 of the SA and Article XIII of GATT 1994 because the allocation of the tariff-rate quota on steel slab was incorrect;

• Articles 2.1, 2.2, 4.2, and 5.1 of the SA because the United States included free trade agreement partners in its investigation but excluded them from the safeguard measures;

• Article 2.2 of the SA and Articles I, XIII, and XIX of GATT 1994 because the United States excluded its free trade agreement partners from the safeguard measures;

• Articles 9.1 of the SA and Article I:1 of GATT 1994 because the United States excluded developing countries in a discriminatory manner;

• Article II of the GATT 1994 because the United States withdrew concessions without justification under Article XIX of the GATT 1994;

• Article X:3 of the GATT 1994 because the United States did not administer its laws in a uniform, impartial, and reasonable manner;

• Article 12 of the SA because the United States failed to provide adequate opportunity for prior consultations with affected Members of the WTO; and

• Article 8.1 of the SA because the United States did not endeavor to maintain a substantially equivalent level of concessions with members of the WTO.

Public Comment: Requirements for Submissions

Interested persons are invited to submit written comments concerning the issues raised in the dispute. Persons submitting comments may either send one copy by U.S. mail, first class, postage prepaid, to Sandy McKinzy at the address listed above or transmit a copy electronically to FR0025@ustr.gov, with “Steel Safeguard Measures Dispute” in the subject line. For documents sent by U.S. mail, USTR requests that the submitter provide a confirmation copy, either electronically or by fax to 202-395-3640. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files. A person requesting that information contained in a comment submitted by that person be treated as confidential business information must certify that such information is business confidential and would not customarily be released to the public by the submitter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 3, First Floor, Office of the United States Trade Representative, 1724 F Street, NW., Washington, DC 20508. The public file will include a listing of any comments received by USTR from the public with respect to the proceeding; the U.S. submissions to the panel in the proceeding, the submissions, or non-confidential summaries of submissions, to the panel received from other participants in the dispute, as well as the report of the dispute settlement panel, and, if applicable, the report of the Appellate Body. An appointment to review the public file (Docket WTO/DS-248, Steel Safeguard Measures ROO Dispute) may be made by calling the Reading Room at (202) 395-6186. The USTR Reading Room is open to the public from 10 a.m. to 12 noon and 1 p.m. to 4 p.m., Monday through Friday.

Bruce R. Hirsh,
Acting Assistant United States Trade Representative for Monitoring and Enforcement.

[FR Doc. 02-20396 Filed 8-12-02; 8:45 am]

BILLING CODE 3190-01-P